DEPARTMENT OF ENERGY

Federal Energy Regulatory Commission

[Docket No. CP16-64-000]

ANR Pipeline Company; Notice of Schedule for Environmental Review of the Collierville Expansion Project

On January 20, 2016, ANR Pipeline Company (ANR) filed an application in Docket No. CP16-64-000 requesting a Certificate of Public Convenience and Necessity pursuant to section 7(c) of the Natural Gas Act to construct and operate certain natural gas pipeline facilities. The proposed project is known as the Collierville Expansion Project (Project). The Project would expand the delivery capability of the existing Collierville Meter Station by an additional 200,000 dekatherms per day, enabling ANR to provide requested service to the Tennessee Valley Authority's pending Allen Combined Cycle Power Plant in Memphis, Tennessee.

On February 3, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 29, 2016

90-day Federal Authorization Decision Deadline—October 27, 2016

If a schedule change becomes necessary, additional notice will be provided so that the relevant agencies are kept informed of the Project's progress.

Project Description

The Project would consist of the following:

• A new Collierville Compressor Station containing one 4,700 horsepower gas turbine compressor unit and ancillary equipment, including an emergency generator unit, a condensate tank, new control building, and compressor building;

• suction and discharge interconnect station piping; and

• upgrades to the existing Collierville Meter Station.

Background

On February 26, 2016, the Commission issued a Notice of Intent to Prepare an Environmental Assessment for the Proposed Collierville Expansion Project and Request for Comments on Environmental Issues (NOI). The NOI was sent to affected landowners; federal, state, and local government agencies; elected officials; environmental and public interest groups; Native American tribes; other interested parties; and local libraries and newspapers. The Commission did not receive comments in response to the NOI.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-64), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 30, 2016.
Nathaniel J. Davis, Sr.,
Deputy Secretary.

[FR Doc. 2016-16236 Filed 7-8-16; 8:45 am]

BILLING CODE 6717-01-P